COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products to the Procurement List that will be furnished by nonprofit agencies employing persons who are blind or have other severe disabilities, and deletes products and a service previously provided by such agencies.

DATES: Comments must be received on or before July 29, 2018.

ADDRESSES: Committee for Purchase From People Who Are Blind or Severely Disabled, 1401 S Clark Street, Suite 715, Arlington, Virginia 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

NSN(s)—Product Name(s):

2940-01-113-1248—Filter Element, Intake Air Cleaner

2940-01-131-7666—Filter Element, Intake Air Cleaner, HEMTT

2940-01-170-4904—Filter Element, Intake Air Cleaner, Cylindrical

4330-01-217-8184—Filter Element, Hydraulic Fluid, HEMTT

4330-01-232-8305—Filter Element, Hydraulic Fluid, Reservoir, HEMTT

2910-01-559-5916—Filter, Fluid

Mandatory for: 100% of the requirement of the Department of Defense

Mandatory Source of Supply: North Central Sight Services, Inc., Williamsport, PA

Contracting Activity: Defense Logistics Agency Land and Maritime

Distribution: C-List

NSN(s)—Product Name(s): 8115-01-582-9709—Box, Shipping, Multi-Use, Grey, 48″ x 32″ x 26″

Mandatory for: Total Government Requirement

Mandatory Source of Supply: South Texas Lighthouse for the Blind, Corpus Christi, TX

Contracting Activity: General Services Administration, New York, NY

Distribution: A-List

Deletions

The following products and service are proposed for deletion from the Procurement List:

Products

NSN(s)—Product Name(s):

7510-01-600-5979—Cartridge, Toner, Monochrome Laser Printer, Double Yield, HP 38A Compatible, Black

7510-01-625-1736—Toner Cartridge, Laser, Extra High Yield, HP P3015 Series Compatible

7510-01-625-4080—Toner cartridge, Laser, Extra High Yield, HP Compatible for the M600

7510-01-625-0849—Toner Cartridge, Laser, Double Yield, Compatible w/Lexmark E230 & other LM, Dell, & IBM printers

7510-01-625-1729—Toner Cartridge, Laser, Extra High Yield, Lexmark SC 630 Series

Mandatory Source of Supply: Alabama Industries for the Blind, Talladega, AL

Mandatory Source of Supply: Lighthouse Works, Orlando, FL

Contracting Activity: General Services Administration, New York, NY

NSN(s)—Product Name(s):

7510-01-590-1496—Laser Toner Cartridge, HP 39A compatible

7510-01-590-1497—Laser Toner Cartridge, HP 96A compatible

7510-01-590-1498—Laser Toner Cartridge, HP 49A compatible

7510-01-590-1499—Laser Toner Cartridge, HP 49X compatible

7510-01-590-1501—Laser Toner Cartridge, HP 13A & 13X compatible

7510-01-590-1502—Laser Toner Cartridge, 43X compatible

7510-01-590-1506—Laser Toner Cartridge, HP 10A compatible

Mandatory Sources of Supply:

Lighthouse Works, Orlando, FL

Alabama Industries for the Blind, Talladega, AL

Contracting Activity: General Services Administration, New York, NY

NSN(s)—Product Name(s):

5510-00-171-7700—Stakes, Wood, 1″ x 2″ x 16″

5510-00-171-7701—Stakes, Wood, 1″ x 2″ x 14″

5510-00-171-7732—Stakes, Wood, 2″ x 2″ x 16″

5510-00-171-7733—Stakes, Wood, 2″ x 2″ x 12″

5510-00-171-7734—Stakes, Wood, 1″ x 2″ x 18″

8460-01-193-9769—Briefcase, Smoke Gray

8460-01-352-3064—Briefcase, Navy Blue

8460-01-364-9493—Attache Case, Black, 16 x 12 x 4

8460-01-385-7294—Briefcase, Black, 17¼″ x 11½″ x 3½

8460-01-391-5837—Briefcase, Forest Service Logo, Green

8465-01-169-3996—Field Pack, Firefighters

Mandatory Source of Supply: Helena Industries, Inc., Helena, MT

Contracting Activity: General Services Administration, Fort Worth, TX

NSN(s)—Product Name(s): 8340-00-951-6423—Kit, Ground Anchor

Mandatory Source of Supply: CW Resources, Inc., New Britain, CT

Contracting Activity: Defense Logistics Agency Troop Support

Service

Service Type: Food Service Attendant Service

Mandatory for:

Pope Air Force Base

Pope Air Force Base, NC

Mandatory Source of Supply: ServiceSource, Inc., Oakton, VA

Contracting Activity: Dept of the Air Force, FA4488 43 CONS LGC

Amy Jensen,
Director, Business Operations.

[FR Doc. 2018-14033 Filed 6-28-18; 8:45 am]

BILLING CODE 6353-01-P